DEPARTMENT OF THE INTERIOR

Bureau of Reclamation

[RR06230000, 14XR0680A1, RN076949980000501]

Notice of Availability of the Northwest Area Water Supply Project Draft Supplemental Environmental Impact Statement; Burke, Bottineau, Divide, McHenry, McLean, Mountrail, Pierce, Renville, Ward, and Williams Counties, North Dakota

AGENCY: Bureau of Reclamation, Interior.

ACTION: Notice.

SUMMARY: The Bureau of Reclamation has completed the Northwest Area Water Supply Project Draft Supplemental Environmental Impact Statement (Draft SEIS). It is now available for public review and comment. The Draft SEIS describes the potential environmental effects of the No Action Alternative and four action alternatives to complete the Project, which would provide a reliable high quality water supply to local communities and rural water systems in northwestern North Dakota, including the City of Minot. Cooperating agencies assisting in the preparation of the Draft SEIS include the U.S. Army Corps of Engineers, U.S. Environmental Protection Agency, North Dakota State Water Commission, City of Minot, and Garrison Diversion Conservancy District.

DATES: Send written comments on the Draft SEIS on or before August 11, 2014.

One public hearing will be held on the following date:

• Wednesday, July 23, 2014, 6:30 p.m. to 8:30 p.m., Minot, North Dakota.

ADDRESSES: Send written comments or requests for copies to Ms. Alicia Waters, Project Manager, Bureau of Reclamation, P.O. Box 1017, Bismarck, ND 58502, or via email to awaters@usbr.gov. The Draft SEIS is also accessible from the following Web site: http://www.usbr.gov/gp/dkao/naws/.

The hearing location is:

• Comfort Inn, 1515 22nd Ave. SW., Minot, ND 58701.

FOR FURTHER INFORMATION CONTACT: Ms. Alicia Waters, Project Manager, 701.221.1206; or by email at awaters@usbr.gov.

SUPPLEMENTARY INFORMATION: The Draft SEIS documents the potential direct, indirect, and cumulative physical, biological, and socioeconomic environment effects that may result from the completion of a municipal, rural, and industrial water system in northwestern North Dakota. The Project would supply water to specific delivery points. Each community or rural water system would be responsible for connecting to the distribution line and delivering water through their water system to end users.

The Draft SEIS evaluates the construction and operation of the components required to complete the proposed action (i.e., the Project). The purpose of the Project is to provide a reliable source of high quality water to communities and rural water systems in northwestern North Dakota for municipal, rural, and industrial uses; the Project is sized to serve projected population growth up to the year 2060. The water provided by the Project would be treated to meet the primary drinking water standards established by the Safe Drinking Water Act.

Project construction began in April 2002 after Reclamation completed an environmental assessment and finding of no significant impact. The Province of Manitoba, Canada, filed a lawsuit in October 2002 against the U.S. Department of the Interior in the U.S. District Court in Washington, DC. The Province challenged the adequacy of the environmental assessment and finding of no significant impact and requested an injunction prohibiting expenditure of federal funds on the Project.

In 2005 the U.S. District Court ordered Reclamation to revisit the finding of no significant impact after completing further environmental analysis. The order stated that additional analyses should consider potential impacts associated with not fully treating Missouri River water at its source, as well as the impacts of pipeline leaks and possible failure of water treatment systems. The court also partially denied the plaintiff's request for an injunction, allowing Project construction to continue with some restrictions. In response to the court order, Reclamation prepared an environmental impact statement (EIS) on water treatment in consultation with other federal, tribal, state and local government agencies, which also included public input. The EIS evaluated a wide range of methods for treating water from Lake Sakakawea in the Missouri River basin prior to conveyance of treated water via buried pipeline to users within the Hudson Bay basin. The EIS also evaluated environmental impacts that could occur due to pipeline leaks and failure of the water treatment systems. A Final EIS on Water Treatment was published in 2008, and Reclamation signed a Record of Decision in 2009.

Shortly thereafter, the Province of Manitoba filed a supplemental complaint contending the Final EIS on Water Treatment was insufficient. The State of Missouri also filed a complaint against the U.S. Department of the Interior and the U.S. Army Corps of Engineers in the same District Court. The State of Missouri alleged Reclamation's Final EIS was insufficient and that the Corps of Engineers failed to complete a separate National Environmental Policy Act assessment of the Project. These two complaints were combined by the District Court. In March 2010, the court remanded the case to Reclamation and stated that the injunction imposed in 2005 remained in effect. The court's remand focused on two specific issues: (1) Cumulative impacts of water withdrawals on Lake Sakakawea and on the Missouri River, and (2) the consequences of transferring potentially invasive species into the Hudson Bay basin. This Draft SEIS evaluates these issues, takes a hard look at potential impacts to other resources, examines the purpose and need for the Project, and evaluates a full range of alternatives to meet the purpose and need.

The geographic scope of analysis varies by resource but generally covers the Missouri and Souris river basins. The geographic scope for the aquatic invasive species analysis extends into Canada as directed by the court. The Hudson Bay basin, which includes Canada's Lake Winnipeg and the surrounding communities, is within the scope of study. The Lake Winnipeg area is included because the Souris River flows north into Manitoba where it meets the Assiniboine River, which flows into the Red River and eventually terminates in Lake Winnipeg.

Authority

The Project was authorized by the Garrison Diversion Reformulation Act of 1986 and the Dakota Water Resources Act of 2000 as part of the Municipal, Rural, and Industrial (MR&I) Grant Program.

Public Review of Draft SEIS

Copies of the Draft SEIS are available for public review at the following locations:

1. Bureau of Reclamation, Dakotas Area Office, 304 East Broadway Avenue, Bismarck, ND 58501.

2. Bureau of Reclamation, Great Plains Regional Office, 2021 4th Avenue North, Billings, MT 59101.

3. Bureau of Reclamation, Denver Office Library, Building 67, Room 167, Denver Federal Center, 6th and Kipling, Denver, CO 80225.

4. Natural Resources Library, U.S. Department of the Interior, 1849 C Street NW., Main Interior Building, Washington, DC 20240-0001.

5. Bismarck Public Library, 515 North 5th Street, Bismarck, ND 58501.

6. Bottineau City Hall, 115 West 6th Street, Bottineau, ND 58318.

7. Minot Public Library, 516 2nd Avenue SW., Minot, ND 58701.

8. Mohall Public Library, 115 Main Street West, Mohall, ND 58761.

9. North Dakota State Library, 604 East Boulevard Avenue, Bismarck, ND 58505.

Special Assistance for the Public Hearing

If special assistance is required at the public hearing, please contact Ms. Patience Hurley, Bureau of Reclamation, Public Affairs Office, at phurley@usbr.gov. Please notify Ms. Hurley as far in advance as possible to enable Reclamation to secure the needed services. If a request cannot be honored, the requestor will be notified.

Public Disclosure

Before including your address, phone number, email address, or other personal identifying information in your comment, you should be aware that your entire comment—including your personal identifying information—may be made publicly available at any time. While you can ask us in your comment to withhold your personal identifying information from public review, we cannot guarantee that we will be able to do so.

Dated: June 19, 2014.
John F. Soucy,
Deputy Regional Director, Great Plains Region.

[FR Doc. 2014-15106 Filed 6-26-14; 8:45 am]

BILLING CODE 4310-MN-P